NUCLEAR REGULATORY COMMISSION

Sunshine Act Meeting

Agency Holding the Meeting: Nuclear Regulatory Commission.

Date: Weeks of April 22, 29, May 6, 13, 20, 27, 2002.

Place: Commissioners' Conference Room, 11555 Rockville Pike, Rockville, Maryland.

Status: Public and Closed.

Matters To Be Considered

Week of April 22, 2002

There are no meetings scheduled for the Week of April 22, 2002.

Week of April 29, 2002—Tentative

Tuesday, April 30, 2002

9:30 a.m. Discussion of Intergovernmental Issues (Closed—Ex. 1)

Wednesday, May 1, 2002

8:55 a.m. Affirmation Session (Public Meeting) (If needed)

9 a.m. Briefing on Results of Agency Action Review Meeting—Reactors (Public Meeting) (Contact: Robert Pascarelli, 301-415-1245)

This meeting will be Webcast live at the Web address— www.nrc.gov.

Week of May 6, 2002—Tentative

There are no meetings scheduled for the Week of May 6, 2002.

Week of May 13, 2002—Tentative

Thursday, May 16, 2002

9:25 a.m. Affirmation Session (Public Meeting) (If needed)

9:30 a.m. Meeting with World Association of Nuclear Operators (WANO) (Public Meeting)

This meeting will be Webcast live at the Web address— www.nrc.gov.

2 p.m. Discussion of Intragovernmental Issues (Closed—Ex. 9)

Week of May 20, 2002—Tentative

There are no meetings scheduled for the Week of May 20, 2002.

Week of May 27, 2002—Tentative

Tuesday, May 28, 2002

9:30 a.m. Briefing on Nuclear Material Licensee Decommissioning and Bankruptcy Issues (Public Meeting) (Contact: Larry Camper, 301-415-7234)

This meeting will be Webcast live at the Web address— www.nrc.gov.

Wednesday, May 29, 2002

9:25 a.m. Affirmation Session (Public Meeting) (If needed) Briefing on the Status of New Reactor Licensing Activities (Public Meeting) (Contact: Joseph Williams, 301-415-1470)

9:30 a.m.

Briefing on the Status of New Reactor Licensing Activities (Public Meeting) (Contact: Joseph Williams, 301-415-1470)

This meeting will be Webcast live at the Web address— www.nrc.gov.

________

*The schedule for Commission meetings is subject to change on short notice. To verify the status of meetings call (recording)—(301) 415-1292. Contact person for more information: David Louis Gamberoni (301) 415-1651.

Additional Information

By a vote of 5-0 on April 11 and 12, the Commission determined pursuant to U.S.C. 552b(e) and § 9.107(a) of the Commission's rules that “Affirmation of (a) Pacific Gas & Electric Co. (Diablo Canyon Power Plant, Units 1 and 2), Docket Nos. 50-275-LT, 50-323-LT, (b) International Uranium (USA) Corporation (White Mesa Uranium Mill) Appeal of LBP-02-03 (MLA-10), (c) Duke Energy Corp. (McGuire Nuclear Station, Units 1 & 2; Catawaba Nuclear Station, Units 1 & 2), (d) Private Fuel Storage (Independent Spent Fuel Storage Installation) Docket No. 72-22-ISFSI; Protective Order for Documents Submitted with Skull Valley Band's Brief in Response to CLI-02-08 (Granting Review of Environmental Justice Ruling, LBP-02-08), and (e) Re-Affirmation of the Final Rule on Part 35—Medical Use of Byproduct Material” be held on April 12, and on less than one week's notice to the public.

* * * * *

The NRC Commission Meeting Schedule can be found on the Internet at: www.nrc.gov/what-we-do/policy-making/schedule.html.

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electric message to dkw@nrc.gov.

Dated: April 18, 2002.
David Louis Gamberoni,
Technical Coordinator, Office of the Secretary.

[FR Doc. 02-9983 Filed 4-19-02; 10:35 am]

BILLING CODE 7590-01-M